DEPARTMENT OF THE INTERIOR

Fish and Wildlife Service

50 CFR Part 17

[Docket No. FWS-HQ-ES-2022-0021; FF09E22000 FXES1113090FEDR 223]

RIN 1018-BG60

Endangered and Threatened Wildlife and Plants; Removing Siderastrea glynni From the List of Endangered and Threatened Wildlife

AGENCY: Fish and Wildlife Service, Interior.

ACTION: Final rule.

SUMMARY: We, the U.S. Fish and Wildlife Service (Service), in accordance with the Endangered Species Act of 1973, as amended (Act), are amending the List of Endangered and Threatened Wildlife (List) by removing the coral Siderastrea glynni. This amendment is based on a previously published determination by the National Marine Fisheries Service (NMFS) of the National Oceanic and Atmospheric Administration, Department of Commerce, which has jurisdiction for this species.

DATES: This rule is effective May 3, 2022.

Applicability date: The delisting of S. glynni was effective January 31, 2022.

ADDRESSES: This rule and the NMFS proposed and final rules may be found online at https://www.regulations.gov in Docket No. FWS-HQ-ES-2022-0021.

FOR FURTHER INFORMATION CONTACT: Elizabeth Maclin, Chief, Branch of Delisting and Foreign Species, U.S. Fish and Wildlife Service, MS: ES, 5275 Leesburg Pike, Falls Church, VA 22041-3803; 703-358-2646.

SUPPLEMENTARY INFORMATION:

Background

In accordance with the Act (16 U.S.C. 1531 et seq.) and Reorganization Plan No. 4 of 1970 (35 FR 15627; October 6, 1970), NMFS has jurisdiction over the marine taxon specified in this rule. Under section 4(a)(2) of the Act, NMFS must decide whether a species under its jurisdiction should be classified as an endangered or threatened species. Under section 4(a)(2)(B) of the Act, if NMFS determines that a species should be removed from the List (delisted), or that a species' status should be changed from an endangered to a threatened species, then NMFS is required to recommend the status change to the Service. NMFS makes these determinations via its rulemaking process. If the Service concurs with the recommended status change, then the Service will implement the status change by publishing a final rule to amend the List in title 50 of the Code of Federal Regulations (CFR) at 50 CFR 17.11(h).

On May 4, 2021, NMFS published a proposed rule (86 FR 23657) to remove S. glynni from the Federal List of Endangered and Threatened Wildlife. NMFS solicited public comments on the proposed rule through July 6, 2021. On December 30, 2021, NMFS published a final rule (86 FR 74378) to remove S. glynni from the Federal List of Endangered and Threatened Wildlife.

The delisting of S. glynni was effective January 31, 2022. In the December 30, 2021, final rule (86 FR 74378), NMFS addressed all public comments received in response to the proposed rule. By publishing this final rule, we are simply taking the necessary administrative step to codify these changes in the List at 50 CFR 17.11(h).

Administrative Procedure Act

Because NMFS provided an opportunity for public comment on the proposed rule for this taxon, and we concur with the NMFS action, we find good cause that the notice and public comment procedures of 5 U.S.C. 553(b) are unnecessary for this action. We also find good cause under 5 U.S.C. 553(d)(3) to make this rule effective immediately. The NMFS rule removed protection under the Act for this species and removed the species from the List at 50 CFR 224.101(h); this rule is an administrative action to remove the species from the List at 50 CFR 17.11(h). The public would not be served by delaying the effective date of this rulemaking action.

Required Determinations

National Environmental Policy Act

We have determined that an environmental assessment, as defined under the authority of the National Environmental Policy Act of 1969, need not be prepared in connection with regulations adopted pursuant to section 4(a) of the Act. We outlined our reasons for this determination in the Federal Register on October 25, 1983 (48 FR 49244).

List of Subjects in 50 CFR Part 17

Endangered and threatened species, Exports, Imports, Reporting and recordkeeping requirements, Transportation.

Regulation Promulgation

Accordingly, we amend part 17, subchapter B of chapter I, title 50 of the CFR, as set forth below.

PART 17—ENDANGERED AND THREATENED WILDLIFE AND PLANTS

1. The authority citation for part 17 continues to read as follows:

Authority: 16 U.S.C. 1361-1407; 1531-1544; and 4201-4245, unless otherwise noted.

§ 17.11 [Amended]

2. Amend § 17.11 in paragraph (h) in the List of Endangered and Threatened Wildlife under Corals by removing the entry for “Coral, (no common name) (Siderastrea glynni)”.

Martha Williams,
Director, U.S. Fish and Wildlife Service.

[FR Doc. 2022-09424 Filed 5-2-22; 8:45 am]

BILLING CODE 4333-15-P